DEPARTMENT OF LABOR

Employment and Training Administration

[TA-W-52,068]

Alice Manufacturing Company, Arial Plant, Easley, SC; Notice of Termination of Investigation

Pursuant to section 221 of the Trade Act of 1974, an investigation was initiated on June 18, 2003, in response to a petition filed by a company official on behalf of workers at Alice Manufacturing Company, Arial Plant, Easley, South Carolina (TA-W-52,068).

The petitioner has requested that the petition be withdrawn. Consequently, further investigation in this case would serve no purpose, and the investigation has been terminated.

Signed in Washington, DC, this 3rd day of July, 2003.
Linda G. Poole,
Certifying Officer, Division of Trade Adjustment Assistance.

[FR Doc. 03-18553 Filed 7-21-03; 8:45 am]

BILLING CODE 4510-30-P